NATIONAL AERONAUTICS AND SPACE ADMINISTRATION

[Notice (05-120)]

NASA Advisory Council, Financial Audit Committee, Meeting

AGENCY: National Aeronautics and Space Administration.

ACTION: Notice of meeting.

SUMMARY: In accordance with the Federal Advisory Committee Act (FACA), Public Law 92-463, as amended, the National Aeronautics and Space Administration announce a forthcoming meeting of the NASA Advisory Council (NAC), Financial Audit Committee (NFAC).

DATES: Tuesday, August 9, 2005, 9 a.m. to 3 p.m.

ADDRESSES: National Aeronautics and Space Administration, Glenn Research Center, 21000 Brookpark Road, Bldg. 3, Room 215, Cleveland OH 44135. (216) 433-2374.

FOR FURTHER INFORMATION CONTACT: Ms. Ermerdene Lee, of the Chief Financial Officer's Office, National Aeronautics and Space Administration, Washington, DC 20546. (202) 358-4529, e-mail elee1@hq.nasa.gov.

SUPPLEMENTARY INFORMATION: The meeting will be open to the public up to the capacity of the room. The agenda for the meeting includes the following topics:

—Overview of Glenn Research Center

—Glenn Research Center Office of the Chief Financial Officer Summary

—Property, Plant & Equipment—Contractor Held Property Attendees will be requested to sign a register and to comply with NASA security requirements, including the presentation of a valid picture ID, before receiving an access badge. U.S. Citizens desiring to attend the NASA Financial Audit Committee meeting at the Glenn Research Center (GRC) must provide their full name, citizenship, company affiliation (if applicable), place of birth, and date of birth and Foreign nationals who desire to attend the meeting must provide their passport or naturalization papers to the GRC Security Office no less than 3 working days prior to the meeting. If the above information is not received by the noted date, attendees should expect a delay in entering the Glenn Research Center. All visitors to this meeting should go to the GRC Security Office, accessible from Brookpark Road, where they will be cleared, given an identification badge, and transported to the meeting location, if seating is available. Please provide the requested information, by the appropriate date, via FAX to (216) 433-2946, to the attention of Kathy Roser, noting at the top: “PUBLIC ADMISSION TO THE FINANCIAL AUDIT COMMITTEE MEETING @ GRC.” Faxes not addressed as required will not be processed.

For security questions, please contact Kathy Roser at (216) 433-2374. It is imperative that the meeting be held on this date to accommodate the scheduling priorities of the key participants.

July 18, 2005.
P. Diane Rausch,
Advisory Committee Management Officer, National Aeronautics and Space Administration.

[FR Doc. 05-14449 Filed 7-21-05; 8:45 am]

BILLING CODE 7510-13-P